DEPARTMENT OF THE INTERIOR

Bureau of Land Management

[NM-114438; AZA-35058; L51010000 ER0000 LVRWG09G0690]

Notice of Intent To Prepare an Environmental Impact Statement and Possible Resource Management Plan Amendments for the SunZia Southwest Transmission Project in Arizona and New Mexico

AGENCY: Bureau of Land Management, Interior.

ACTION: Notice of Intent.

SUMMARY: The Bureau of Land Management (BLM), New Mexico State Office, announces its intent to prepare an Environmental Impact Statement (EIS), and by this notice is announcing the beginning of the scoping process and soliciting input on identification of issues and proposed planning criteria in response to a right-of-way application filed by SunZia Transmission, LLC (SunZia).

DATES: Comments should be submitted no later than 45 days after publication of this Notice in the Federal Register. The BLM will announce public scoping meetings to identify relevant issues through local news media, newsletters, and the BLM Web site (see below) at least 15 days prior to each meeting. We will provide additional opportunities for public participation upon publication of the Draft EIS, including a 90-day public comment period.

ADDRESSES: You may submit comments or resource information by any of the following methods:

Web site: http://www.blm.gov/nm/st/en/prog/more/lands_realty.html.

E-Mail: NMSunZiaProject@blm.gov.

Mail: Bureau of Land Management, New Mexico State Office, SunZia Southwest Transmission Project, P.O. Box 27115, Santa Fe, NM 87502-0115.

Courier/Hand Delivery: Bureau of Land Management, SunZia Southwest Transmission Project, 1474 Rodeo Road, Santa Fe, NM 87505.

Documents pertinent to the right-of-way application may be examined at: Bureau of Land Management New Mexico State Office, Public Room, 1474 Rodeo Road, Santa Fe, NM 87505, Telephone (505) 438-7471.

FOR FURTHER INFORMATION: For further information and/or to have your name added to the mailing list, contact Adrian Garcia, SunZia Southwest Transmission BLM Project Manager, at the New Mexico State Office, P.O. Box 27115, Santa Fe, NM 87502-0115, or by e-mail at NMSunZiaProject@blm.gov.

SUPPLEMENTARY INFORMATION: SunZia has submitted a right-of-way application to construct, operate, and maintain two new single-circuit overhead 500 kilovolt (kV) transmission lines originating at a new substation in either Socorro County or Lincoln County in the vicinity of Bingham or Ancho, New Mexico, and terminating at the Pinal Central Substation in Pinal County near Coolidge, Arizona. The overall transmission line route would be approximately 460 miles in length, a substantial part of this length on BLM lands, and two separate transmission lines would be located on BLM, State, and private lands.

SunZia's proposal is to transport electricity generated by power generation resources, including primarily renewable resources, to western power markets and load centers. The SunZia project would enable the development of renewable energy resources, including wind, solar, and geothermal generation, by creating access to the interState power grid in the Southwest and providing increased transfer capacity. The proposed project would also increase power reliability across the southwestern United States, allow communities in southern Arizona and southern New Mexico to economically access energy generated from renewable sources, provide power to help meet growing demand in the western United States, and enhance domestic energy security.

The Southwest Area Transmission Group—a regional transmission planning organization—identified a need for the project. Its importance is demonstrated by the abundance of proposed projects that have submitted interconnection requests to transmission owners within the proposed project area, and the potential for renewable energy sites within the SunZia project area. Additional transmission would be required to support development of potential renewable energy projects in Arizona and New Mexico. In addition, the requirement of each State to meet Renewable Portfolio Standards (RPS) and national interests in energy, demonstrate the need for the proposed project.

The proposed transmission line route and alternatives developed through the NEPA process would cross BLM lands in Arizona and New Mexico, as well as State and private lands. To the extent feasible, the proposed route would use existing transmission line corridors and designated utility corridors located on Federal land. One of the 500 kV transmission lines would be constructed and operated as an alternating current (AC) facility. SunZia may construct and operate the other proposed transmission lines as either AC or direct current (DC). The SunZia transmission lines would interconnect with planned substations along the route. Equipment additions and modifications would be required at each of the interconnecting substations. Engineering studies would determine those requirements as part of the project. A right-of-way of up to 1,000 feet in width and a lease-term of 50 years would be required to construct, operate, and maintain the transmission lines, structures and appurtenances. If constructed, the project would be in operation year-round, transporting electrical power to major substation hubs in Arizona and New Mexico. The project would have a bi-directional transmission capacity of approximately 3,000 megawatts or greater of electrical power.

The proposed project would take approximately three years to construct and would likely be constructed in phased segments with an in-service date of 2013. Specific acreages of access roads and temporary work areas would be determined through the NEPA process and project design.

In Arizona, approximately 43 miles of the proposed route would cross public land administered by the Safford and Tucson BLM Field Offices. In New Mexico, approximately 128 miles of the proposed route would cross public land administered by the BLM Las Cruces District Office and BLM Socorro Field Office. The proposed route would pass in the general vicinity of the following locations:

Arizona: Coolidge, San Manuel, Safford, Willcox, Bowie, and San Simon; and

New Mexico: Lordsburg, Deming, Hatch, Derry, Arrey, Truth or Consequences, San Antonio, Bingham, Ancho, and Carrizozo.

The BLM is the lead Federal agency for the NEPA analysis process and preparation of the EIS. Cooperating agencies identified at this time could include: The Bureau of Reclamation, the U.S. Army Corps of Engineers, the New Mexico State Land Office, and the Arizona State Land Department. Other State and local governments will be invited to participate in the process, and consultation will occur with local, State, and tribal governments.

The purpose of the public scoping process is to determine relevant issues that will influence the scope of the environmental analysis, including alternatives, and guide the process for developing the EIS. At present, the BLM has identified the following preliminary issues: The potential effects of the proposed action on wildlife habitat, plants, and animals including threatened, endangered, and sensitive species, visual resources, National Historic Trails and related viewsheds; Native American traditional cultural properties and sacred places; soils/water from surface disturbing activities; local and regional socioeconomic conditions; consistency with local government land use plans; and future reclamation/mitigation from transmission line construction or location. The BLM encourages the public to send comments concerning the project as proposed, other feasible alternative locations, possible mitigation measures, and any other information relevant to the proposed action.

Authorization of this proposal may require amendments to one or more RMPs. By this notice, the BLM is complying with requirements in 43 CFR 1610.2(c) to notify the public of potential RMP amendments, predicated on the findings of the EIS. If RMP amendments are necessary, the BLM will integrate the RMP process with the NEPA process for this project.

Your input is important and will be considered in the public scoping process. All comment submittals must include the commenter's name and street address. Comments including the names and addresses of the commenter will be available for public inspection at the above offices during business hours (7:45 a.m. to 4:30 p.m.), Monday through Friday, except Federal holidays. Before including your address, phone number, e-mail address, or any other personal identifying information in your comment, be advised that your entire comment, including your personal identifying information, may be publicly available at any time. While you can ask us in your comment to withhold from public review your personal identifying information, we cannot guarantee that we will be able to do so.

William Merhege,
Acting Deputy State Director, Lands and Resources.

[FR Doc. E9-12512 Filed 5-28-09; 8:45 am]

BILLING CODE 4310-FB-P